DEPARTMENT OF JUSTICE

Notice of Lodging Proposed Consent Decree

In accordance with Departmental Policy, 28 CFR 50.7, notice is hereby given that a proposed Consent Decree in United States v. Eddie's Service Station, et al., No. 5:10-cv-6126, was lodged with the United States District Court for the Western District of Missouri on June 20, 2011.

This proposed Consent Decree concerns a complaint filed by the United States against Eddie's Service Station, Inc., and Gerald Oswald pursuant to 33 U.S.C. 1311(a), to obtain injunctive relief from and impose civil penalties against the Defendants for violating the Clean Water Act by discharging pollutants without a permit into waters of the United States. The proposed Consent Decree resolves these allegations by requiring the Defendants to pay a civil penalty, conduct a mitigation project, and enter into several environmental covenants on the affected property. The Department of Justice will accept written comments relating to this proposed Consent Decree for thirty (30) days from the date of publication of this Notice. Please address comments to David Gunter, Appellate Section, United States Department of Justice, P.O. Box 23795, Washington, DC 20026 and refer to United States v. Eddie's Service Station, DJ #90-5-1-1-17849.

The proposed Consent Decree may be examined at the Clerk's Office, United States District Court for the Western District of Missouri, 400 East 9th Street, Kansas City, Missouri 64106. In addition, the proposed Consent Decree may be viewed at http://www.usdoj.gov/enrd/Consent_Decrees.html.

Maureen M. Katz,
Assistant Section Chief, Environment & Natural Resources Division.

[FR Doc. 2011-15869 Filed 6-23-11; 8:45 am]

BILLING CODE P